SUSQUEHANNA RIVER BASIN COMMISSION

Projects Approved for Consumptive Uses of Water

AGENCY: Susquehanna River Basin Commission.

ACTION: Notice.

SUMMARY: This notice lists Approvals by Rule for projects by the Susquehanna River Basin Commission during the period set forth in DATES.

DATES: January 1-31, 2025.

ADDRESSES: Susquehanna River Basin Commission, 4423 North Front Street, Harrisburg, PA 17110-1788.

FOR FURTHER INFORMATION CONTACT: Jason E. Oyler, General Counsel and Secretary to the Commission, telephone: (717) 238-0423, ext. 1312; fax: (717) 238-2436; email: joyler@srbc.net. Regular mail inquiries may be sent to the above address.

SUPPLEMENTARY INFORMATION: This notice lists the projects, described below, receiving approval for the consumptive use of water pursuant to the Commission's approval by rule process set forth in 18 CFR 806.22(e) and (f) for the time period specified above.

Approvals by Rule—Issued Under 18 CFR 806.22(e)

1. Harrisburg Cooling LLC; ABR-202501001; City of Harrisburg, Dauphin County, Pa.; Consumptive Use of Up to 0.1250 mgd; Approval Date: January 22, 2025.

Approvals by Rule—Issued Under 18 CFR 806.22(f)

1. RENEWAL—Chesapeake Appalachia, L.L.C.; Pad ID: S.A. Wilson Drilling Pad; ABR-201411001.R2; Overton Township, Bradford County, Pa.; Consumptive Use of Up to 7.5000 mgd; Approval Date: January 22, 2025.

2. RENEWAL—Chesapeake Appalachia, L.L.C.; Pad ID: Teel Unit #1H; ABR-20091115.R3; Springville Township, Susquehanna County, Pa.; Consumptive Use of Up to 7.5000 mgd; Approval Date: January 22, 2025.

3. RENEWAL—Coterra Energy Inc.; Pad ID: BrooksW P1; ABR-20090701.R3; Springville Township, Susquehanna County, Pa.; Consumptive Use of Up to 5.0000 mgd; Approval Date: January 22, 2025.

4. RENEWAL—Coterra Energy Inc.; Pad ID: Gesford P2; ABR-20090705.R3; Dimock Township, Susquehanna County, Pa.; Consumptive Use of Up to 5.0000 mgd; Approval Date: January 22, 2025.

5. RENEWAL—Coterra Energy Inc.; Pad ID: HullR P1; ABR-20090702.R3; Springville Township, Susquehanna County, Pa.; Consumptive Use of Up to 5.0000 mgd; Approval Date: January 22, 2025.

6. RENEWAL—Coterra Energy Inc.; Pad ID: LaRueC P1; ABR-20090706.R3; Dimock Township, Susquehanna County, Pa.; Consumptive Use of Up to 5.0000 mgd; Approval Date: January 22, 2025.

7. RENEWAL—Coterra Energy Inc.; Pad ID: SmithR P2; ABR-20090707.R3; Springville Township, Susquehanna County, Pa.; Consumptive Use of Up to 5.0000 mgd; Approval Date: January 22, 2025.

8. RENEWAL—Coterra Energy Inc.; Pad ID: Teel P7; ABR-20090704.R3; Springville Township, Susquehanna County, Pa.; Consumptive Use of Up to 5.0000 mgd; Approval Date: January 22, 2025.

9. RENEWAL—Coterra Energy Inc.; Pad ID: WeissM P1; ABR-201407003.R2; Gibson Township, Susquehanna County, Pa.; Consumptive Use of Up to 5.0000 mgd; Approval Date: January 22, 2025.

10. RENEWAL—Pin Oak Energy Partners LLC; Pad ID: Gulf USA 67H—68H; ABR-201406006.R2; Snow Shoe Township, Centre County, Pa.; Consumptive Use of Up to 3.0000 mgd; Approval Date: January 22, 2025.

11. RENEWAL—Repsol Oil & Gas USA, LLC; Pad ID: DCNR 587 (02 002); ABR-20090811.R3; Ward Township, Tioga County, Pa.; Consumptive Use of Up to 6.0000 mgd; Approval Date: January 22, 2025.

12. RENEWAL—Repsol Oil & Gas USA, LLC; Pad ID: DCNR 587 (02 004); ABR-20090812.R3; Ward Township, Tioga County, Pa.; Consumptive Use of Up to 6.0000 mgd; Approval Date: January 22, 2025.

13. RENEWAL—Repsol Oil & Gas USA, LLC; Pad ID: DCNR 587 (02 017); ABR-20090932.R3; Ward Township, Tioga County, Pa.; Consumptive Use of Up to 6.0000 mgd; Approval Date: January 22, 2025.

14. RENEWAL—SWN Production Company, LLC; Pad ID: Carrar Pad Site; ABR-20090725.R3; Liberty Township, Susquehanna County, Pa.; Consumptive Use of Up to 4.9990 mgd; Approval Date: January 22, 2025.

15. RENEWAL—Coterra Energy Inc.; Pad ID: ColwellA P1; ABR-201408004.R2; Jackson Township, Susquehanna County, Pa.; Consumptive Use of Up to 5.0000 mgd; Approval Date: January 24, 2025.

16. RENEWAL—Coterra Energy Inc.; Pad ID: GrimsleyJ P1; ABR-20090805.R3; Dimock Township, Susquehanna County, Pa.; Consumptive Use of Up to 5.0000 mgd; Approval Date: January 24, 2025.

17. RENEWAL—BKV Operating, LLC; Pad ID: Procter & Gamble Mehoopany Plant 2 1H; ABR-20091104.R3; Washington Township, Wyoming County, Pa.; Consumptive Use of Up to 5.0000 mgd; Approval Date: January 25, 2025.

18. RENEWAL—BKV Operating, LLC; Pad ID: Procter and Gamble Mehoopany Plant 1V; ABR-20091014.R3; Washington Township, Wyoming County, Pa.; Consumptive Use of Up to 5.0000 mgd; Approval Date: January 25, 2025.

19. RENEWAL—Repsol Oil & Gas USA, LLC; Pad ID: Bear Claw; ABR-202001002.R1; McIntyre Township, Lycoming County, Pa.; Consumptive Use of Up to 6.0000 mgd; Approval Date: January 25, 2025.

20. RENEWAL—Repsol Oil & Gas USA, LLC; Pad ID: Kipferl 261-1H; ABR-20090732.R3; Jackson Township, Tioga County, Pa.; Consumptive Use of Up to 6.0000 mgd; Approval Date: January 25, 2025.

21. RENEWAL—Repsol Oil & Gas USA, LLC; Pad ID: Palmer 112; ABR-20091006.R3; Canton Township, Bradford County, Pa.; Consumptive Use of Up to 6.0000 mgd; Approval Date: January 25, 2025.

22. RENEWAL—Seneca Resources Company, LLC; Pad ID: 212 1H; ABR-20090727.R3; Charleston Township, Tioga County, Pa.; Consumptive Use of Up to 4.0000 mgd; Approval Date: January 25, 2025.

23. RENEWAL—Seneca Resources Company, LLC; Pad ID: 235A 1H; ABR-20090728.R3; Sullivan Township, Tioga County, Pa.; Consumptive Use of Up to 4.0000 mgd; Approval Date: January 25, 2025.

24. RENEWAL—Seneca Resources Company, LLC; Pad ID: Courtney 129 1H-2H; ABR-20090729.R3; Richmond Township, Tioga County, Pa.; Consumptive Use of Up to 4.0000 mgd; Approval Date: January 25, 2025.

25. RENEWAL—Seneca Resources Company, LLC; Pad ID: Courtney H 255-1H; ABR-20090730.R3; Richmond Township, Tioga County, Pa.; Consumptive Use of Up to 4.0000 mgd; Approval Date: January 25, 2025.

26. RENEWAL—Beech Resources, LLC; Pad ID: Douglas C. Kinley Pad A; ABR-201903001.R1; Lycoming Township, Lycoming County, Pa.; Consumptive Use of Up to 3.0000 mgd; Approval Date: January 29, 2025.

27. RENEWAL—Chesapeake Appalachia, L.L.C.; Pad ID: Kuziak B Drilling Pad; ABR-201409004.R2; Elkland Township, Sullivan County, Pa.; Consumptive Use of Up to 7.5000 mgd; Approval Date: January 29, 2025.

28. RENEWAL—EQT ARO LLC; Pad ID: COP Tr 678 #1001H & #1002H; ABR-20090821.R3; Noyes Township, Clinton County, Pa.; Consumptive Use of Up to 4.0000 mgd; Approval Date: January 29, 2025.

29. RENEWAL—EQT ARO LLC; Pad ID: Tx Gulf B #1H; ABR-20090822.R3; Beech Creek Township, Clinton County, Pa.; Consumptive Use of Up to 4.0000 mgd; Approval Date: January 29, 2025.

30. RENEWAL—Seneca Resources Company, LLC; Pad ID: D09-M; ABR-202001003.R1; Jones Township, Elk County, Pa.; Consumptive Use of Up to 4.0000 mgd; Approval Date: January 29, 2025.

31. RENEWAL—Coterra Energy Inc.; Pad ID: DysonW P1; ABR-201408010.R2; Springville Township, Susquehanna County, Pa.; Consumptive Use of Up to 5.0000 mgd; Approval Date: January 30, 2025.

32. RENEWAL—Coterra Energy Inc.; Pad ID: FontanaC P1; ABR-201408009.R2; Bridgewater Township, Susquehanna County, Pa.; Consumptive Use of Up to 5.0000 mgd; Approval Date: January 30, 2025.

33. RENEWAL—Coterra Energy Inc.; Pad ID: Heitsman P1A; ABR-20090703.R3; Springville Township, Susquehanna County, Pa.; Consumptive Use of Up to 5.0000 mgd; Approval Date: January 30, 2025.

34. RENEWAL—Seneca Resources Company, LLC; Pad ID: Smith 253 1H; ABR-20090825.R3; Sullivan Township, Tioga County, Pa.; Consumptive Use of Up to 4.0000 mgd; Approval Date: January 30, 2025.

Approvals by Rule—Issued Under 18 CFR 806.22(f) for December 2024—Corrections

5. Repsol Oil & Gas USA, LLC; Pad ID: Lovell (08-707); ABR-202412003; Liberty Township, Tioga County, Pa.; Consumptive Use of Up to 6.0000 mgd; Approval Date: December 4, 2024.

6. Seneca Resources Company, LLC; Pad ID: Gamble Pad Y; ABR-202412002; Gamble Township, Lycoming County, Pa.; Consumptive Use of Up to 4.0000 mgd; Approval Date: December 4, 2024.

8. RENEWAL—Range Resources—Appalachia, LLC; Pad ID: Ogontz 3H, 7H, & 9H; ABR-20090606.R3; Mifflin Township, Lycoming County, Pa.; Consumptive Use of Up to 4.0000 mgd; Approval Date: December 13, 2024.

Authority: Public Law 91-575, 84 Stat. 1509 et seq., 18 CFR parts 806 and 808.

Dated: March 7, 2025.
Jason E. Oyler,
General Counsel and Secretary to the Commission.

[FR Doc. 2025-03921 Filed 3-11-25; 8:45 am]

BILLING CODE 7040-01-P